NUCLEAR REGULATORY COMMISSION

[NRC-2020-0242]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from September 22, 2020, to October 15, 2020. The last notice was published on October 6, 2020. This notice also incorporates a title change, as noticed in the Federal Register on October 6, 2020. The next monthly notice is expected to be published in the Federal Register on or about December 1, 2020.

DATES: Comments must be filed by December 3, 2020. A request for a hearing or a petition for leave to intervene must be filed by January 4, 2021.

ADDRESSES: You may submit comments by any of the following methods; however, the NRC encourages electronic comment submission through the Federal Rulemaking website:

• Federal Rulemaking Website: Go to https://www.regulations.gov and search for Docket ID NRC-2020-0242. Address questions about Docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Bernadette Abeywickrama, Office of Nuclear Reactor Regulation, U.S. Nuclear Regulatory Commission, Washington DC 20555-0001, telephone: 301-415-4081, email: Bernadette.Abeywickrama@nrc.gov,.

SUPPLEMENTARY INFORMATION:

I. Obtaining Information and Submitting Comments

A. Obtaining Information

Please refer to Docket ID NRC-2020-0242, facility name, unit number(s), docket number(s), application date, and subject when contacting the NRC about the availability of information for this action. You may obtain publicly available information related to this action by any of the following methods:

• Federal Rulemaking Website: Go to https://www.regulations.gov and search for Docket ID NRC-2020-0242.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents is currently closed. You may submit your request to the PDR via email at PDR.Resource@nrc.gov or call 1-800-397-4209 between 8:00 a.m. and 4:00 p.m. (EST), Monday through Friday, except Federal holidays.

B. Submitting Comments

The NRC encourages electronic comment submission through the Federal Rulemaking website (https://www.regulations.gov). Please include Docket ID NRC-2020-0242, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensees' analyses, consistent with title 10 of the Code of Federal Regulations (10 CFR) section 50.91, are sufficient to support the proposed determination that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example, in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d), the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements of 10 CFR 2.309(f) with respect to at least one contention will not be permitted to participate as a party.

Those permitted to intervene become parties to the proceeding, subject to any limitations in the order granting leave to intervene. Parties would have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a hearing request is granted, any person who is not a party to the proceeding (including persons who are affiliated with or represented by a party) may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The table below provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Arizona Public Service Company, et al; Palo Verde Nuclear Generating Station, Units 1, 2, and 3; Maricopa County, AZ
Docket No(s) | 50-528, 50-529, 50-530.
Application date | August 21, 2020.
ADAMS Accession No | ML20234A737.
Location in Application of NSHC | Pages 5-7 of the Enclosure.
Brief Description of Amendment(s) | The proposed amendments would revise the Palo Verde Nuclear Generating Station, Units 1, 2, and 3 technical specifications (TSs) to make necessary administrative changes. Specifically, the proposed amendments would make the following five administrative changes to the TSs that remove no longer applicable information, extraneous information, and adopt standard industry terminology: (1) TS 3.1.5, “Control Element Assembly (CEA) Alignment,” Surveillance Requirement 3.1.5.3, to remove a one-time use Note for Unit 2 CEA No. 88; (2) TS 3.7.17, “Spent Fuel Assembly Storage,” TS 4.3, “Fuel Storage,” and TS 5.5.21, “Spent Fuel Storage Rack Neutron Absorber Monitoring Program,” to remove no longer applicable pages related to the implementation of Amendment 203, which addressed a revised spent fuel pool criticality analysis; (3) TS 4.1, “Site Location,” to remove extraneous information from the site location description; (4) TS 5.5.2, “Primary Coolant Sources Outside Containment,” to remove a remaining post-accident sampling subsystem reference; (5) TS 5.7, “High Radiation Area,” to modify radiation protection terminology to match industry standards.
Proposed Determination | NSHC.
Name of Attorney for Licensee, Mailing Address | Michael G. Green, Associate General Counsel, Nuclear and Environmental, Pinnacle West Capital Corporation, P.O. Box 52034, MS 7602, Phoenix, AZ 85072-2034.
NRC Project Manager, Telephone Number | Siva Lingam, 301-415-1564.
Energy Harbor Nuclear Corp. and Energy Harbor Nuclear Generation LLC; Perry Nuclear Power Plant, Unit 1; Lake County, OH
Docket No(s) | 50-440.
Application date | September 24, 2020.
ADAMS Accession No | ML20268C198.
Location in Application of NSHC | Pages 6-8 of the Enclosure.
Brief Description of Amendment(s) | The proposed amendment would adopt Technical Specifications Task Force (TSTF) Traveler TSTF-582, “Reactor Pressure Vessel Water Inventory Control (RPV WIC) Enhancements.” The technical specifications related to RPV WIC are revised to incorporate operating experience and to correct errors and omissions in TSTF-542, Revision 2, “Reactor Pressure Vessel Water Inventory Control.”
Proposed Determination | NSHC.
Name of Attorney for Licensee, Mailing Address | Rick Giannantonio, General Counsel, Energy Harbor Nuclear Corp., Mail Stop A-GO-15, 76 South Main Street, Akron, OH 44308.
NRC Project Manager, Telephone Number | Scott Wall, 301-415-2855.
Entergy Louisiana, LLC and Entergy Operations, Inc.; River Bend Station, Unit 1; West Feliciana Parish, LA
Docket No(s) | 50-458.
Application date | September 4, 2020.
ADAMS Accession No | ML20248H528.
Location in Application of NSHC | Pages 4-6 of the Enclosure
Brief Description of Amendment(s) | The proposed amendment would revise the technical specifications related to reactor pressure vessel (RPV) water inventory control (WIC) to incorporate operating experience and to correct errors and omissions in Technical Specifications Task Force (TSTF) Traveler TSTF-542, Revision 2, “Reactor Pressure Vessel Water Inventory Control.” The proposed changes are consistent with NRC-approved TSTF 582, “RPV WIC Enhancements.”
Proposed Determination | NSHC.
Name of Attorney for Licensee, Mailing Address | Anna Vinson Jones, Senior Counsel, Entergy Services, Inc.,101 Constitution Avenue NW, Suite 200 East, Washington, DC 20001.
NRC Project Manager, Telephone Number | Jason Drake, 301-415-8378.
Entergy Louisiana, LLC, and Entergy Operations, Inc.; River Bend Station, Unit 1; West Feliciana Parish, LA; Entergy Operations, Inc., System Energy Resources, Inc., Cooperative Energy, A Mississippi Electric Cooperative, and Entergy Mississippi, LLC; Grand Gulf Nuclear Station, Unit 1; Claiborne County, MS
Docket No(s) | 50-458, 50-416.
Application date | September 18, 2020.
ADAMS Accession No | ML20262H225.
Location in Application of NSHC | Pages 2-4 of the Enclosure.
Brief Description of Amendment(s) | The proposed amendments would revise the technical specifications (TSs) in accordance with Technical Specifications Task Force (TSTF) Traveler TSTF-563, Revision 0, “Revise Instrument Testing Definitions to Incorporate the Surveillance Frequency Control Program,” dated May 10, 2017 (ADAMS Accession No. ML17130A819). TSTF-563 revises the TS definitions of Channel Calibration and Channel Functional Test, which currently permit performance by any series of sequential, overlapping, or total channel steps, to allow the required frequency for testing the components or devices in each step to be determined in accordance with the TS Surveillance Frequency Control Program. The NRC issued a final safety evaluation approving TSTF-563, Revision 0, on December 4, 2018 (ADAMS Accession No. ML18333A144).
Proposed Determination | NSHC.
Name of Attorney for Licensee, Mailing Address | Anna Vinson Jones, Senior Counsel, Entergy Services, Inc.,101 Constitution Avenue NW, Suite 200 East, Washington, DC 20001.
NRC Project Manager, Telephone Number | Siva Lingam, 301-415-1564.
Exelon Generation Company, LLC; Limerick Generating Station, Units 1 and 2; Montgomery County, PA
Docket No(s) | 50-352, 50-353.
Application date | September 3, 2020.
ADAMS Accession No | ML20247J372.
Location in Application of NSHC | Pages 3-5 of the Enclosure.
Brief Description of Amendment(s) | The proposed amendments would revise the Limerick, Units 1 and 2, technical specifications (TSs) to adopt Technical Specifications Task Force (TSTF) Traveler TSTF-582, Revision 0, “RPV [Reactor Pressure Vessel] WIC [Water Inventory Control] Enhancements.” The TSs related to RPV WIC would be revised to incorporate operating experience and to correct errors and omissions in TSTF-542, Revision 2, “Reactor Pressure Vessel Water Inventory Control.”
Proposed Determination | NSHC.
Name of Attorney for Licensee, Mailing Address | Tamra Domeyer, Associate General Counsel, Exelon Generation Company, LLC, 4300 Winfield Road, Warrenville, IL 60555.
NRC Project Manager, Telephone Number | V. Sreenivas, 301-415-2597.
NextEra Energy Seabrook, LLC; Seabrook Station, Unit No. 1; Rockingham County, NH
Docket No(s) | 50-443.
Application date | August 17, 2020.
ADAMS Accession No | ML20230A425.
Location in Application of NSHC | Pages 10-12 of the Enclosure.
Brief Description of Amendment(s) | The proposed amendment would modify the technical specifications in order to resolve non-conservative requirements associated with nuclear heat flux hot channel factor, as reported in Westinghouse Nuclear Safety Advisory Letter (NSAL) 09-5, Revision 1, and NSAL 15-1.
Proposed Determination | NSHC.
Name of Attorney for Licensee, Mailing Address | Debbie Hendell, Managing Attorney—Nuclear, Florida Power & Light Company, 700 Universe Blvd., MS LAW/JB, Juno Beach, FL 33408-0420.
NRC Project Manager, Telephone Number | Justin Poole, 301-415-2048.
Northern States Power Company; Monticello Nuclear Generating Plant; Wright County, MN
Docket No(s) | 50-263.
Application date | September 22, 2020.
ADAMS Accession No | ML20267A139.
Location in Application of NSHC | Pages 3-5 of the Enclosure.
Brief Description of Amendment(s) | The amendment would revise the Monticello Nuclear Generating Plant technical specifications to adopt Technical Specifications Task Force (TSTF) Traveler TSTF-582, “Reactor Pressure Vessel Water Inventory Control (RPV WIC) Enhancements,” and incorporates variations included in “T” traveler TSTF-583, “TSTF-582 Diesel Generator Variation.”
Proposed Determination | NSHC.
Name of Attorney for Licensee, Mailing Address | Peter M. Glass, Assistant General Counsel, Xcel Energy, 414 Nicollet Mall—401-8, Minneapolis, MN 55401.
NRC Project Manager, Telephone Number | Robert Kuntz, 301-415-3733.
Pacific Gas and Electric Company; Diablo Canyon Power Plant, Units 1 and 2; San Luis Obispo County, CA
Docket No(s) | 50-275, 50-323.
Application date | August 31, 2020.
ADAMS Accession No | ML20244A192.
Location in Application of NSHC | Pages 15-17 of the Enclosure.
Brief Description of Amendment(s) | The proposed amendments would modify Technical Specification 3.2.1, “Heat Flux Hot Channel Factor (FQ(Z)),” to implement the methodology in Westinghouse Report WCAP-17661-P-A, Revision 1, “Improved RAOC [Relaxed Axial Offset Control] and CAOC [Constant Axial Offset Control] FQ Surveillance Technical Specifications.”
Proposed Determination | NSHC.
Name of Attorney for Licensee, Mailing Address | Jennifer Post, Esq., Pacific Gas & Electric Co., 77 Beale Street, Room 3065, Mail Code B30A, San Francisco, CA 94105.
NRC Project Manager, Telephone Number | Samson Lee, 301-415-3168.
PSEG Nuclear LLC; Salem Nuclear Generating Station, Units 1 and 2; Salem County, NJ
Docket No(s) | 50-272, 50-311.
Application date | September 17, 2020.
ADAMS Accession No | ML20266G247.
Location in Application of NSHC | Pages 6-7 of the Enclosure.
Brief Description of Amendment(s) | The amendments would replace the current technical specification limit on the reactor coolant system gross specific activity with a new limit on reactor coolant system noble gas specific activity. The noble gas specific activity would be based on a new dose equivalent Xe-133 (DEX) definition that would replace the current E-Bar average disintegration energy definition. The proposed changes are consistent with NRC-approved Technical Specifications Task Force (TSTF) Traveler, TSTF-490, Revision 0, “Deletion of E-Bar Definition and Revision to RCS [Reactor Coolant System] Specific Activity Tech Spec.”
Proposed Determination | NSHC.
Name of Attorney for Licensee, Mailing Address | Steven Fleischer, PSEG Services Corporation, 80 Park Plaza, T-5, Newark, NJ 07102.
NRC Project Manager, Telephone Number | James Kim, 301-415-4125.
Southern Nuclear Operating Company, Inc.; Edwin I. Hatch Nuclear Plant, Units 1 and 2; Appling County, GA
Docket No(s) | 50-321, 50-366.
Application date | August 28, 2020.
ADAMS Accession No | ML20241A240.
Location in Application of NSHC | Pages E-4 to E-7 of the Enclosure.
Brief Description of Amendment(s) | The proposed amendment would revise the Edwin I. Hatch Nuclear Plant technical specifications (TSs) to adopt Technical Specifications Task Force (TSTF) Traveler TSTF-582, “RPV WIC [Reactor Pressure Vessel Water Inventory Control] Enhancements.” The TSs related to RPV WIC would be revised to incorporate operating experience and to correct errors and omissions in TSTF-542, Revision 2, “Reactor Pressure Vessel Water Inventory Control.” Specifically, the following TSs would be revised: TS 1.1, “Definitions”; TS 3.3.5.2, “Reactor Pressure Vessel (RPV) Water Inventory Control Instrumentation”; TS 3.3.8.1, “Loss of Power (LOP) Instrumentation”; TS 3.5.2, “Reactor Pressure Vessel (RPV) Water Inventory Control”; TS 3.6.1.3, “Primary Containment Isolation Valves (PCIVs)”; and TS 3.8.2, “AC [Alternating Current] Sources—Shutdown”; as well as administrative and editorial changes.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Vogtle Electric Generating Plant, Units 1 and 2; Burke County, GA
Docket No(s) | 50-424, 50-425.
Application date | August 17, 2020.
ADAMS Accession No | ML20230A346.
Location in Application of NSHC | Pages E4-4 to E4-7 of Enclosure 4.
Brief Description of Amendment(s) | The proposed amendment would revise the licensing basis as described in the Vogtle Electric Generating Plant Final Safety Analysis Report to allow the use of a risk-informed approach to address safety issues discussed in Generic Safety Issue 191, “Assessment of Debris Accumulation on Pressurized-Water Reactor Sump Performance.” In addition, the proposed amendment would add a new Technical Specification (TS) 3.6.7, “Containment Sump,” move an existing Surveillance Requirement from TS 3.5.2, “Reactor Pressure Vessel (RPV) Water Inventory Control,” to the new TS 3.6.7, and make administrative and editorial changes.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
STP Nuclear Operating Company; South Texas Project, Units 1 and 2; Matagorda County, TX
Docket No(s) | 50-498, 50-499.
Application date | July 30, 2020, as supplemented by letter dated September 22, 2020.
ADAMS Accession No | ML20212L521, ML20266H819.
Location in Application of NSHC | Page 2 of the Enclosure incorporates by reference the NSHC published in the Federal Register on February 22, 2006 (71 FR 9179), and a notice of availability was published on April 21, 2006 (71 FR 20735).
Brief Description of Amendment(s) | The amendments would adopt Technical Specifications Task Force (TSTF) Traveler TSTF-374, “Revision to TS 5.5.13 and Associated TS [Technical Specification] Bases for Diesel Fuel Oil.” Specifically, the amendments would revise the TSs by relocating references to specific American Society for Testing and Materials standards for fuel oil testing to the TS Bases and adding alternate criteria to the “clear and bright” acceptance test for new fuel oil.
Proposed Determination | NSHC.
Name of Attorney for Licensee, Mailing Address | Kym Harshaw, Vice President and General Counsel, STP Nuclear Operating Company, P.O. Box 289, Wadsworth, TX 77483.
NRC Project Manager, Telephone Number | Dennis Galvin, 301-415-6256.

III. Notice of Issuance of Amendments to Facility Operating Licenses and Combined Licenses

During the period since publication of the NRC's last consolidated notice of issuance, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the table below. The safety evaluation will provide the ADAMS accession numbers for the application for amendment and the Federal Register citation for any environmental assessment. All of these items can be accessed as described in the “Obtaining Information and Submitting Comments” section of this document.

License Amendment Issuance(s)
Dominion Nuclear Connecticut, Inc.; Millstone Power Station, Unit No. 3; New London County, CT
Docket No(s) | 50-423.
Amendment Date | October 14, 2020.
ADAMS Accession No | ML20275A000.
Amendment No(s) | 277.
Brief Description of Amendment(s) | The amendment revised Millstone Unit No. 3 Technical Specification 6.8.4.g, “Steam Generator (SG) Program,” by adding a note to permit a one-time deferral of the Steam Generators A and C inspections from fall 2020 to spring 2022.
Public Comments Received as to Proposed NSHC (Yes/No) | No.
DTE Electric Company; Fermi 2; Monroe County, MI
Docket No(s) | 50-341.
Amendment Date | October 5, 2020.
ADAMS Accession No | ML20233A838.
Amendment No(s) | 216.
Brief Description of Amendment(s) | The amendment revised the Fermi 2 Technical Specification (TS) 2.1.1, “Reactor Core Safety Limits,” reactor steam dome pressure from 785 pounds per square inch gauge (psig) to 686 psig and TS Table 3.3.6.1-1, “Primary Containment Isolation Instrumentation,” Function 1.b, “Main Steam Line Pressure—Low,” isolation function allowable value from 736 psig to 801 psig.
Public Comments Received as to Proposed NSHC (Yes/No) | No.
Energy Harbor Nuclear Corp. and Energy Harbor Nuclear Generation LLC; Beaver Valley Power Station, Units 1 and 2; Beaver County, PA
Docket No(s) | 50-334, 50-412.
Amendment Date | September 23, 2020.
ADAMS Accession No | ML20213A731.
Amendment No(s) | 305 (Unit 1) and 195 (Unit 2).
Brief Description of Amendment(s) | The amendments revised the Beaver Valley, Units 1 and 2, technical specifications regarding primary and secondary coolant activities, control room emergency ventilation system testing criteria, and permit a one-time change to the control room envelope unfiltered air in-leakages test frequency.
Public Comments Received as to Proposed NSHC (Yes/No) | No.
Entergy Louisiana, LLC, and Entergy Operations, Inc.; River Bend Station, Unit 1; West Feliciana Parish, LA
Docket No(s) | 50-458.
Amendment Date | September 28, 2020.
ADAMS Accession No | ML20244A011.
Amendment No(s) | 202.
Brief Description of Amendment(s) | The amendment modified River Bend Station Technical Specification 3.3.5.2, “Reactor Pressure Vessel (RPV) Water Inventory Control Instrumentation,” by removing the surveillance frequencies and placing them in a licensee-controlled program through the adoption of NRC-approved Technical Specifications Task Force (TSTF) Traveler TSTF-425, Revision 3, “Relocate Surveillance Frequencies to Licensee Control—RITSTF [Risk-Informed TSTF] Initiative 5b.”
Public Comments Received as to Proposed NSHC (Yes/No) | No.
Exelon Generation Company, LLC; Clinton Power Station, Unit No. 1; DeWitt County, IL
Docket No(s) | 50-461.
Amendment Date | October 14, 2020.
ADAMS Accession No | ML20266G343.
Amendment No(s) | 235.
Brief Description of Amendment(s) | The amendment revised the licensing basis to allow automatic operation of the load tap changer for the emergency reserve auxiliary transformer.
Public Comments Received as to Proposed NSHC (Yes/No) | No.
National Institute of Standard and Technology (NIST), Center for Neutron Research Test Reactor, Montgomery County, Maryland
Docket No(s) | 50-184.
Amendment Date | September 21, 2020.
ADAMS Accession No | ML20230A293.
Amendment No(s) | 12.
Brief Description of Amendment(s) | This amendment modified the NIST National Bureau of Standards Test Reactor physical security plan under Sections 73.60, “Additional requirements for physical protection at nonpower reactors,” and 73.67, “Licensee fixed site and in-transit requirements for the physical protection of special nuclear material of moderate and low strategic significance,” of 10 CFR part 73, “Physical Protection of Plants and Materials.”
Public Comments Received as to Proposed NSHC (Yes/No) | No.
NextEra Energy Point Beach, LLC; Point Beach Nuclear Plant, Unit 1; Manitowoc County, WI
Docket No(s) | 50-266.
Amendment Date | September 25, 2020.
ADAMS Accession No | ML20241A058.
Amendment No(s) | 267.
Brief Description of Amendment(s) | The amendment modified the Point Beach Nuclear Plant, Unit 1 Renewed Facility Operating License Condition 4.I, “Containment Building Construction Truss,” to extend elements of the license condition on a one-time basis. This one-time extension was requested due to unforeseen issues as a result of the Coronavirus Disease 2019 public health emergency.
Public Comments Received as to Proposed NSHC (Yes/No) | No.
PSEG Nuclear LLC; Hope Creek Generating Station; Salem County, NJ
Docket No(s) | 50-354.
Amendment Date | September 29, 2020.
ADAMS Accession No | ML20231A632.
Amendment No(s) | 224.
Brief Description of Amendment(s) | The amendment added a new license condition to the Hope Creek Renewed Facility Operating License to allow the implementation of the risk-informed categorization and treatment of structures, systems, and components of nuclear power reactors in accordance with 10 CFR 50.69.
Public Comments Received as to Proposed NSHC (Yes/No) | No.
Southern Nuclear Operating Company, Inc.; Edwin I. Hatch Nuclear Plant, Units 1 and 2; Appling County, GA
Docket No(s) | 50-321, 50-366.
Amendment Date | September 18, 2020.
ADAMS Accession No | ML20254A057.
Amendment No(s) | 307 (Unit 1) and 252 (Unit 2).
Brief Description of Amendment(s) | The amendments revised Technical Specification (TS) 3.8.1, “AC [Alternating Current] Sources—Operating,” for Hatch, Units 1 and 2, to provide a one-time extension of the completion time of Required Action B.4 for the Hatch, Unit 1, TS and Required Actions B.4 and C.4 for the Hatch, Unit 2, TS for each Hatch, Unit 1, emergency diesel generator (EDG) and the swing EDG, from 14 days to 19 days. The amendments are risk-informed and follow the guidance in NRC Regulatory Guide (RG) 1.174, “An Approach for Using Probabilistic Risk Assessment in Risk-Informed Decisions on Plant-Specific Changes to the Licensing Basis,” Revision 3, and NRC RG 1.177, “An Approach for Plant-Specific, Risk-Informed Decisionmaking: Technical Specifications,” Revision 1.
Public Comments Received as to Proposed NSHC (Yes/No) | No.
Southern Nuclear Operating Company, Inc.; Joseph M. Farley Nuclear Plant, Units 1 and 2; Houston County, AL
Docket No(s) | 50-348, 50-364.
Amendment Date | October 6, 2020.
ADAMS Accession No | ML20196L929.
Amendment No(s) | 229 (Unit 1) and 226 (Unit 2).
Brief Description of Amendment(s) | The amendments modified Technical Specification (TS) 3.7.15, “Spent Fuel Assembly Storage” and TS 4.3, “Fuel Storage,” and updated the spent fuel pool criticality safety analysis to account for the impact on the spent fuel for a measurement uncertainty recapture power uprate.
Public Comments Received as to Proposed NSHC (Yes/No) | No.
Southern Nuclear Operating Company, Inc.; Joseph M. Farley Nuclear Plant, Units 1 and 2; Houston County, AL
Docket No(s) | 50-348, 50-364.
Amendment Date | October 9, 2020.
ADAMS Accession No | ML20121A283.
Amendment No(s) | 230 (Unit 1) and 227 (Unit 2).
Brief Description of Amendment(s) | The amendments revised the renewed facility operating licenses to authorize an increase in the maximum licensed rated thermal power from 2,775 megawatts thermal (MWt) to 2,821 MWt, which is an increase of approximately 1.7 percent. The amendments also granted approval to apply WCAP-18124-NP-A, “Fluence Determination with RAPTOR-M3G and FERRET,” in a limited application to predict fluence for non-beltline reactor vessel material.
Public Comments Received as to Proposed NSHC (Yes/No) | No.
Southern Nuclear Operating Company, Inc.; Joseph M. Farley Nuclear Plant, Units 1 and 2; Houston County, AL
Docket No(s) | 50-348, 50-364.
Amendment Date | October 13, 2020.
ADAMS Accession No | ML20224A285.
Amendment No(s) | 231 (Unit 1) and 228 (Unit 2).
Brief Description of Amendment(s) | The proposed amendments corrected Technical Specification (TS) 3.3.1, “Reactor Trip System (RTS) Instrumentation,” by removing a reference to “RTP” [rated thermal power]. The proposed amendments also revised TS 3.3.7, “Control Room Emergency Filtration/Pressurization System (CREFS) Actuation Instrumentation,” to change the units for the control room ventilation radiation isolation trip setpoint from counts per minute to an equivalent setpoint in units of microcuries per cubic centimeter with a clarifying footnote.
Public Comments Received as to Proposed NSHC (Yes/No) | No.
Southern Nuclear Operating Company, Inc.; Vogtle Electric Generating Plant, Units 3 and 4; Burke County, GA
Docket No(s) | 52-025, 52-026.
Amendment Date | September 24, 2020.
ADAMS Package Accession No | ML20237F487.
Amendment No(s) | 184 (Unit 3) and 182 (Unit 4).
Brief Description of Amendment(s) | The amendments authorized changes to the following Combined License Appendix A, Technical Specification (TS): TS 3.3.13, Engineered Safety Feature Actuation System (ESFAS) Main Control Room (MCR) Isolation, Air Supply Initiation, and Electrical Load De-energization applicability is revised to exclude operability of the MCR Air Supply Iodine or Particulate Radiation—High 2 function when the MCR envelope is isolated and the MCR emergency habitability system (VES) is operating; TS 3.3.13 is revised to include Class 1E 24-Hour Battery Charger Input Undervoltage actuation signals for VES actuation and de-energization of the MCR air supply radiation monitoring sample pumps; and TS 3.8.1, DC Sources—Operating, and TS 3.8.2, DC Sources—Shutdown, are revised to include a Surveillance Requirement to verify each MCR air supply radiation monitoring sample pump de-energizes on an actual or simulated actuation signal. The amendments also authorized certain changes to the Updated Final Safety Analysis Report that involve these TS changes.
Public Comments Received as to Proposed NSHC (Yes/No) | No.
STP Nuclear Operating Company; South Texas Project, Units 1 and 2; Matagorda County, TX
Docket No(s) | 50-498, 50-499.
Amendment Date | September 29, 2020.
ADAMS Accession No | ML20253A046.
Amendment No(s) | 220 (Unit 1) and 205 (Unit 2).
Brief Description of Amendment(s) | The amendment replaced the technical specifications limit for reactor coolant system (RCS) gross specific activity with a new limit based upon RCS noble gas specific activity.
Public Comments Received as to Proposed NSHC (Yes/No) | No.
Susquehanna Nuclear, LLC and Allegheny Electric Cooperative, Inc.; Susquehanna Steam Electric Station, Units 1 and 2; Luzerne County, PA
Docket No(s) | 50-387, 50-388.
Amendment Date | October 8, 2020.
ADAMS Accession No | ML20199G749.
Amendment No(s) | 276 (Unit 1) and 258 (Unit 2).
Brief Description of Amendment(s) | The amendments replaced Technical Specification 5.5.2, “Primary Coolant Sources Outside Containment,” and modified the design-basis accident loss-of-coolant accident analysis described in the Susquehanna Updated Final Safety Analysis Report.
Public Comments Received as to Proposed NSHC (Yes/No) | No.

Dated: October 28, 2020.
For the Nuclear Regulatory Commission.
Craig G. Erlanger,
Director, Division of Operating Reactor Licensing, Office of Nuclear Reactor Regulation.

[FR Doc. 2020-24207 Filed 11-2-20; 8:45 am]

BILLING CODE 7590-01-P